DEPARTMENT OF THE INTERIOR

Geological Survey: Privacy Act of 1974, as Amended; Establishment of a New System of Records

AGENCY: U.S. Geological Survey.

ACTION: Proposed establishment of a new system of records.

SUMMARY: In accordance with the Privacy Act of 1974, as amended (5 U.S.C. 552a), the Department of the Interior is issuing public notice of its intent to establish a new Privacy Act system of records notice to its inventory: Interior, USGS-01, “National Water Information System: NWIS.”

DATES: Comments must be received by October 29, 2008.

ADDRESSES: Any persons interested in commenting on this new system of records may do so by submitting comments in writing to the U.S. Geological Survey Privacy Act Officer, Deborah Kimball, National Center, 12201 Sunrise Valley Drive, MS-807, Reston, Virginia 20192, or by e-mail to dkimball@usgs.gov.

FOR FURTHER INFORMATION CONTACT: U.S. Geological Survey Privacy Act Officer, Deborah Kimball, National Center, 12201 Sunrise Valley Drive, MS-807, Reston, Virginia 20192, or by e-mail to dkimball@usgs.gov.

SUPPLEMENTARY INFORMATION: NWIS is the repository of hydrologic data collected as part of cooperative hydrologic studies nationwide for the Water Resources Division of the USGS. In addition to comprehensive nationwide information on groundwater and surface water quantity and quality, the NWIS contains information about individuals or groups that own or have control of physical access to sites where USGS collects data. This system of records notice will be effective as proposed at the end of the comment period unless comments are received which would require a contrary determination. The U.S. Geological Survey will publish a revised notice if changes are made based upon a review of comments received.

Dated: September 11, 2008.
Deborah Kimball,
U.S. Geological Survey Privacy Act Officer.

SYSTEM NAME:

USGS, USGS-01, “National Water Information System: NWIS”.

SYSTEM LOCATION:

U.S. Geological Survey, Water Resources Discipline, National Water Information System, 12201 Sunrise Valley Drive, MS 437, Reston, VA 20192 and 45 Water Science Centers (for locations see “System Managers and Addresses” below).

CATEGORIES OF INDIVIDUALS COVERED BY THE SYSTEM:

Individuals and groups who own or control physical access to groundwater or surface-water sites in the United States.

Note: This system contains records relating to corporations and other business entities. However, only records containing personal information relating to individuals are subject to the Privacy Act.

CATEGORIES OF RECORDS IN THE SYSTEM:

Each entry in the system contains non-mandatory fields that may contain information about the site-owner or a contact person associated with the site. This information includes site-owner name or contact person's name, postal address, and phone number.

AUTHORITY FOR MAINTENANCE OF THE SYSTEM:

43 U.S.C. 31 et seq. The Organic Act of March 3, 1879, as amended (1962); directs the Geological Survey to classify the public lands and examine the geological structure, mineral resources, and products within and outside the national domain.

ROUTINE USES OF RECORDS MAINTAINED IN THE SYSTEM, INCLUDING CATEGORIES OF USERS AND THE PURPOSES OF SUCH USES:

The following routine uses may apply, as appropriate, to disclosures from record systems at the Department of the Interior that are protected by the Privacy Act of 1974, 5 U.S.C. 552, et seq.

The primary uses of the records in the system are:

(1) To maintain accurate, timely and complete information about groundwater and surface-water quantity, quality and use at sites throughout the United States, so that reports and surveys can be developed analyzing accurate information.

(2) To maintain information on site-owners and those controlling access to sites in order to obtain advance approval to visit a site on private land, or to request additional information about the site or activities taking place there.

Other disclosures outside the Department of the Interior may be made:

(1)(a) To any of the following entities or individuals, when the circumstances set forth in paragraph (b) are met:

(i) The U.S. Department of Justice (DOJ);

(ii) A court or an adjudicative or other administrative body;

(iii) A party in litigation before a court or an adjudicative or other administrative body; or

(iv) Any DOI employee acting in his or her individual capacity if DOI or DOJ has agreed to represent that employee or pay for private representation of the employee;

(b) When:

(i) One of the following is a party to the proceeding or has an interest in the proceeding:

(A) DOI or any component of DOI;

(B) Any other Federal agency appearing before the Office of Hearings and Appeals;

(C) Any DOI employee acting in his or her official capacity;

(D) Any DOI employee acting in his or her individual capacity if DOI or DOJ has agreed to represent that employee or pay for private representation of the employee;

(E) The United States, when DOJ determines that DOI is likely to be affected by the proceeding; and

(ii) DOI deems the disclosure to be:

(A) Relevant and necessary to the proceeding; and

(B) Compatible with the purpose for which the records were compiled.

(2) To a congressional office in response to a written inquiry that an individual covered by the system, or the heir of such individual if the covered individual is deceased, has made to the office.

(3) To any criminal, civil, or regulatory law enforcement authority (whether Federal, state, territorial, local, tribal or foreign) when a record, either alone or in conjunction with other information, indicates a violation or potential violation of law—criminal, civil, or regulatory in nature, and the disclosure is compatible with the purpose for which the records were compiled.

(4) To an official of another Federal agency to provide information needed in the performance of official duties related to reconciling or reconstructing data files or to enable that agency to respond to an inquiry by the individual to whom the record pertains.

(5) To Federal, state, territorial, local, tribal, or foreign agencies that have requested information relevant or necessary to the hiring, firing or retention of an employee or contractor, or the issuance of a security clearance, license, contract, grant or other benefit, when the disclosure is compatible with the purpose for which the records were compiled.

(6) To representatives of the National Archives and Records Administration to conduct records management inspections under the authority of 44 U.S.C. 2904 and 2906.

(7) To state and local governments and tribal organizations to provide information needed in response to court order and/or discovery purposes related to litigation, when the disclosure is compatible with the purpose for which the records were compiled.

(8) To an expert, consultant, or contractor (including employees of the contractor) of DOI that performs services requiring access to these records on DOI's behalf to carry out the purposes of the system.

(9) To appropriate agencies, entities, and persons when:

(a) It is suspected or confirmed that the security or confidentiality of information in the system of records has been compromised; and

(b) The Department has determined that as a result of the suspected or confirmed compromise there is a risk of harm to economic or property interest, identity theft or fraud, or harm to the security or integrity of this system or other systems or programs (whether maintained by the Department or another agency or entity) that rely upon the compromised information; and

(c) The disclosure is made to such agencies, entities and persons who are reasonably necessary to assist in connection with the Department's efforts to respond to the suspected or confirmed compromise and prevent, minimize, or remedy such harm.

(10) To the Office of Management and Budget during the coordination and clearance process in connection with legislative affairs as mandated by OMB Circular A-19.

DISCLOSURE TO CONSUMER REPORTING AGENCIES:

Disclosure will not be made to consumer reporting agencies.

POLICIES AND PRACTICES FOR STORING, RETRIEVING, ACCESSING, RETAINING, AND DISPOSING OF RECORDS IN THE SYSTEM:

STORAGE:

Records are stored on magnetic hard disk media in relational databases at 45 Water Science Centers. These facilities are under the direction of the USGS, Water Resources Division (WRD) Science Center Directors. In addition to the forty-five Water Science Center sites, there are two NWIS real-time (NWIS-RT) redundant processing sites and the system development and testing site where the records are stored on hard disk in relational databases.

RETRIEVABILITY:

Records are retrieved by site location number only.

SAFEGUARDS:

(1) Physical Security: Servers and related electronic systems including computer station monitors are located in locked buildings. In many locations law enforcement is also present to protect their security.

(2) Technical Security: Electronic records are maintained in conformity with Office of Management and Budget, National Institute of Standards Technology, and Departmental requirements reflecting the implementation of the Federal Information Security Management Act. Electronic data is protected through user identification, passwords, database permissions, a Privacy Act Warning, and software controls. These security measures establish different degrees of access for different types of users. NWIS controls access using three layers of security: system user authentication, database access (table and row level) via grants, and roles and groups on the NWIS application. The Security Plan addresses the Department's Privacy Act safeguard requirements for Privacy Act systems at 43 CFR 2.51. A Privacy Impact Assessment was completed to ensure that Privacy Act requirements and safeguards are sufficient and in place. Its provisions will be updated as needed to ensure that Privacy Act requirements continue to be met.

(3) Administrative Security: Access is strictly limited to authorized personnel whose official duties require such access. All Departmental and contractor employees with access to NWIS are required to complete Privacy Act, Federal Records Act, and Information Technology Security Awareness training prior to being given access to the system, and on an annual basis, thereafter. All users sign security forms stating they will neither misuse government computers nor the information contained therein. In addition, managers and supervisors of users monitor the use of the database and ensure that the information is used in accordance with certified and accredited business practices.

RETENTION AND DISPOSITION:

The data stored in the NWIS databases are permanent records; therefore, the retention period is indefinite. When the data is no longer required for research or if the NWIS program is discontinued, records will be transferred to NARA for permanent retention pursuant to Records Schedules for similar records. This is in accordance with NARA Item Number 1400-01 dated April 14, 2008, and is part of the overall Water Resource Discipline Scientific Records Disposition Schedule.

SYSTEM MANAGER(S) AND ADDRESSES:

(1) National Water Information System Program Office Chief, U.S. Geological Survey, Water Resources Discipline, 12201 Sunrise Valley Drive, MS 437, Reston, VA 20192;

(2) Director, Alabama Water Science Center, AUM TechnaCenter, 75 TechnaCenter Drive, Montgomery, AL 36117;

(3) Director, Alaska Science Center, 4230 University Drive, Grace Hall, Anchorage, AK 99508-4664;

(4) Director, Arizona Water Science Center, 520 North Park Avenue, Suite 221, Tucson, AZ 85719-5035;

(5) Director, Arkansas Water Science Center, 401 Hardin Road, Little Rock, AR 72211-3528;

(6) Director, Caribbean Water Science Center, GSA Center, 651 Federal Drive, Suite 400-15, Guaynabo, PR 00965;

(7) Director, Colorado Water Science Center, Denver Federal Center, Box 25046, Mail Stop 415, Denver, CO 80225;

(8) Director, Florida Integrated Science Center—Tallahassee, 12703 Research Parkway, Orlando, FL 32826;

(9) Director, Georgia Water Science Center, 3039 Amwiler Road, Suite 130, Atlanta, GA 30360-2824;

(10) Water Director, Idaho Water Science Center, 230 Collins Road, Boise, ID 83702-4520;

(11) Director, Illinois Water Science Center, 221 N. Broadway Avenue, Suite 101, Urbana, IL 61801-2748;

(12) Director, Indiana Water Science Center, 5957 Lakeside Blvd, Indianapolis, IN 46278;

(13) Director, Iowa Water Science Center, 400 South Clinton Street, Room 269, Iowa City, IA 52240;

(14) Director, Kansas Water Science Center, S4821 Quail Crest Place, Lawrence, KS 66049;

(15) Director, Kentucky Water Science Center, 9818 Bluegrass Parkway, Louisville, KY 40299;

(16) Director, Louisiana Water Science Center, 3535 Sherwood Forest Blvd., Suite 120, Baton Rouge, LA 70816;

(17) Director, Maryland Water Science Center, 5522 Research Park Drive, Baltimore, MD 21228;

(18) Director, Massachusetts Water Science Center, 10 Bearfoot Road, Northborough, MA 01532;

(19) Director, Michigan Water Science Center, 6520 Mercantile Way, Suite 5, Lansing, MI 48911;

(20) Director, Minnesota Water Science Center, 2280 Woodale Drive, Mounds View, MN 55112;

(21) Director, Mississippi Water Science Center, 308 S. Airport Road, Pearl, MS 39208-6649;

(22) Director, Missouri Water Science Center, 1400 Independence Road, Rolla, MO 65401;

(23) Director, Montana Water Science Center, 3162 Bozeman Avenue, Helena, MT 59601;

(24) Director, Nebraska Water Science Center, 5231 South 19th Street, Lincoln, NE 68512-1271;

(25) Director, Nevada Water Science Center, 2730 N. Deer Run Road, Carson City, NV 89701;

(26) Director, New Jersey Water Science Center, 810 Bear Tavern, Suite 206, West Trenton, NJ 08628;

(27) Director, New Mexico Water Science Center, 5338 Montgomery Blvd. NE, Suite 400, Albuquerque, NM 87109;

(28) Director, New York Water Science Center, 425 Jordan Road, Troy, NY 12180-8349;

(29) Director, North Carolina Water Science Center, 3916 Sunset Ridge Road, Raleigh, NC 27602;

(30) Director, North Dakota Water Science Center, 821 East Interstate Avenue, Bismarck, ND 58503-1199;

(31) Director, Ohio Water Science Center, 6480 Doubletree Avenue, Columbus, OH 43229-1111;

(32) Director, Oklahoma Water Science Center, NW 66th Street, Building 7, Oklahoma City, OK 73116;

(33) Director, Oregon Water Science Center, 2130 SW 5th Avenue, Portland, OR 97201;

(34) Director, Pacific Islands Water Science Center, 677 Ala Moana Blvd., Suite 415, Honolulu, HI 96813;

(35) Director, Pennsylvania Water Science Center, 215 Limekiln Rd., New Cumberland, PA 17070;

(36) Director, South Carolina Water Science Center, 720 Gracern Road, Suite 129, Columbia, SC 29210;

(37) Director, South Dakota Water Science Center, 1608 Mt. View Road, Rapid City, SD 57702;

(38) Director, Tennessee Water Science Center, 640 Grassmere Park, Suite 100, Nashville, TN 37211;

(39) Director, Texas Water Science Center, 8027 Exchange Drive, Austin, TX 78754-4733;

(40) Director, Utah Water Science Center, 2329 W. Orton Circle, Valley City, UT 84119-2047;

(41) Director, Virginia Water Science Center, 1730 East Parham Road, Richmond, VA 23228;

(42) Director, Washington Water Science Center, 934 Broadway, Suite 300, Tacoma, WA 98402;

(43) Director, Western Region Office, 3020 State University Drive East, Suite 3005, Menlo Park, CA 94025;

(44) Director, West Virginia Water Science Center, 11 Dunbar Street, Charleston, WV 25301;

(45) Director, Wisconsin Water Science Center, 8505 Research Way, Middleton, WI 53562-3581;

(46) Director, Wyoming Water Science Center, 2617 E. Lincolnway, Suite B, Cheyenne, WY 82001.

NOTIFICATION PROCEDURES:

Inquiries regarding the existence of records about an individual shall be addressed to the appropriate Water Science Center Director shown under the System Managers list above. A written, signed request stating that the requestor seeks information concerning records pertaining to him or herself is required. (see 43 CFR 2.60.)

RECORD ACCESS PROCEDURES:

For copies of your records, write to the appropriate Water Science Center Director shown under the System Managers list above. The request must be in writing, signed by the requestor, and meet the content requirements of 43 CFR 2.63.

CONTESTING RECORDS PROCEDURES:

To request amendment of your records, write to the appropriate Water Science Center Director shown under the System Managers list above. The request must be in writing, signed by the requestor and meet the content requirements of 43 CFR 2.71.

RECORD SOURCE CATEGORIES:

Designated USGS personnel enter site-owner location information that is provided by individuals, well drillers, local, State environmental protections offices, water management districts or Federal cooperating agencies such as the U.S. Army Corps of Engineers, Environmental Protection Agency, and the Department of Commerce, National Oceanic and Atmospheric Administration's National Weather Service.

EXEMPTIONS CLAIMED FOR THE SYSTEM:

None.

[FR Doc. E8-21913 Filed 9-18-08; 8:45 am]

BILLING CODE 4310-Y7-P